NATIONAL FOUNDATION ON THE ARTS AND THE HUMANITIES

National Endowment for the Arts

National Council on the Arts 191st Meeting

AGENCY: National Endowment for the Arts, National Foundation on the Arts and Humanities.

ACTION: Notice of meeting.

SUMMARY: Pursuant to the Federal Advisory Committee Act (Pub. L. 92-463), as amended, notice is hereby given that a meeting of the National Council on the Arts will be held in Conference Room 3063/3064 and Conference Rooms A & B at Constitution Center, 400 7th St. SW., Washington, DC 20506. Agenda times are approximate.

DATES: Thursday, June 29th, 2017 from 12:30 p.m. to 2:30 p.m. and Friday, June 30th, 2017 from 9:00 a.m. to 11:30 a.m.

FOR FURTHER INFORMATION CONTACT: Office of Public Affairs, National Endowment for the Arts, Washington, DC 20506, at 202-682-5570.

SUPPLEMENTARY INFORMATION: The meeting on June 29th from 12:30 p.m. to 2:30 p.m., will be in Conference Room 3063/3064 and will be closed for discussion of National Medal of Arts nominations. The meeting on June 30th, in Conference Rooms A & B from 9:00 a.m. to 11:30 a.m., will be open to the public on a space available basis. The tentative agenda is as follows: The meeting will begin at 9:00 a.m. with opening remarks and voting on recommendations for funding and rejection and guidelines, followed by updates from the Chairman. There also will be the following presentations (times are approximate): from 9:30 a.m. to 10:00 a.m.—Presentation on TimeSlips Creative Storytelling (Anne Basting, Founder & President of TimeSlips); from 10:00 a.m. to 10:30 a.m.—Presentation on The Matheny School and Hospital (Dr. Kenneth Robey, Director of Research Institute in Developmental Disabilities); from 10:30 a.m.-11:00 a.m.—Presentation on Metro Nashville Arts Commission (Jen Cole, Executive Director). From 11:00-11:15 a.m. there will be concluding remarks from the Chairman and announcement of voting results. The meeting will adjourn at 11:30 a.m.

The Friday, June 30th session also will be webcast. To register to watch the webcasting of this open session of the meeting, go to https://www.arts.gov/event/2017/national-council-arts-june-2017-public-meeting.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, Constitution Center, 400 7th St. SW., Washington, DC 20506, 202-682-5733, Voice/T.T.Y. 202-682-5496, at least seven (7) days prior to the meeting.

Dated: June 8, 2017.
Sherry P. Hale,
Staff Assistant, Office of Guidelines and Panel Operations.

[FR Doc. 2017-12213 Filed 6-12-17; 8:45 am]

BILLING CODE 7537-01-P